DEPARTMENT OF JUSTICE

Immigration and Naturalization Service

[INS No. 2115N-01]

RIN 1115-AG06

Filing Address for Submitting Applications Under the Legal Immigration Family Equity (LIFE) Act Legalization Provisions and LIFE Act Amendments Family Unity Provisions

AGENCY: Immigration and Naturalization Service, Justice.

ACTION: Notice.

SUMMARY: On June 1, 2001, at 66 FR 29661, the Department of Justice published an interim rule in the Federal Register. The supplementary information portion of the interim rule provided an incorrect address to be used for applicants under section 1104 of the Legal Immigration Family Equity (LIFE) Act (otherwise known as LIFE Legalization) and section 1504 of the LIFE Act Amendments (LIFE Act Amendment Family Unity). This notice serves to advise the public of the correct address to which applications for LIFE Legalization and LIFE Act Amendments Family Unity should be filed. Accordingly, all applications filed in relation to LIFE Legalization (such as Forms I-485, Application to Register Permanent Residence or Adjust Status, and supporting documents, Forms I-765, Application for Employment Authorization, and Forms I-131, Application for Travel Document) and LIFE Act Amendments Family Unity (Forms I-817, Application for Family Unity Benefits) should be mailed to: United States Immigration and Naturalization Service, P.O. Box 7219, Chicago, Illinois 60680-7219.

DATES: This notice is effective August 29, 2001.

FOR FURTHER INFORMATION CONTACT: Daniel Renaud, Chief, Field Coordination Branch, 800 K Street NW, Room 1000, Washington, DC 20536, telephone (202) 514-2982.

Dated: August 15, 2001.
James W. Ziglar,
Commissioner, Immigration and Naturalization Service.

[FR Doc. 01-21796 Filed 8-28-01; 8:45 am]

BILLING CODE 4410-10-M